DEPARTMENT OF ENERGY

Federal Energy Regulatory Commission

[Project No. 2203-015]

Alabama Power Company; Notice of Application Accepted for Filing and Soliciting Motions To Intervene and Protests

Take notice that the following hydroelectric application has been filed with the Commission and is available for public inspection.

a. Type of Application: New Major License.

b. Project No.: 2203-015.

c. Date filed: August 16, 2013.

d. Applicant: Alabama Power Company (Alabama Power).

e. Name of Project: Holt Hydroelectric Project.

f. Location: The existing project is on the Black Warrior River in Tuscaloosa County, Alabama. The project is located on 36.64 acres of federal lands administered by the U.S. Army Corps of Engineers (Corps).

g. Filed Pursuant to: Federal Power Act, 16 U.S.C. 791(a)-825(r).

h. Applicant Contact: Mr. Jim Heilbron, Senior Vice President and Senior Production Officer, Alabama Power Company, 600 North 18th Street, P.O. Box 2641, Birmingham, AL 35203-2206, (205) 257-1000.

i. FERC Contact: Jeanne Edwards, Telephone (202) 502-6181, and email Jeanne.edwards@ferc.gov.

j. Deadline for filing motions to intervene and protests and requests for cooperating agency status: 60 days from the issuance date of this notice.

The Commission strongly encourages electronic filing. Please file motions to intervene and protests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2203-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. The Holt Project consist of: (1) An existing 130-foot-long concrete non-overflow dam; (2) an existing 110-foot long earth fill dam located between the non-overflow structure and the right abutment; and (3) an existing powerhouse containing 1 turbine with an installed capacity of 46,944-kilowatts. The remaining dam structures and reservoir are owned and operated by the Corps. The applicant estimates that the total average annual generation would be 153,604,600 kilowatt hours. All generated power is utilized within the applicant's electric utility system.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, .211, and .214. In determining the appropriate action to take, the Commission will consider all protests filed, but only those who file a motion to intervene in accordance with the Commission's rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Dated: May 21, 2014.
Kimberly D. Bose,
Secretary.

[FR Doc. 2014-12369 Filed 5-28-14; 8:45 am]

BILLING CODE 6717-01-P